DEPARTMENT OF ENERGY

Environmental Management Site-Specific Advisory Board, Savannah River Site

AGENCY: Office of Environmental Management, Department of Energy.

ACTION: Notice of open meeting.

SUMMARY: This notice announces a meeting of the Environmental Management Site-Specific Advisory Board (EM SSAB), Savannah River Site. The Federal Advisory Committee Act requires that public notice of this meeting be announced in the Federal Register.

DATES: Monday, March 21, 2022; 1:00 p.m.-4:45 p.m.

Tuesday, March 22, 2022; 9:00 a.m.-2:30 p.m.

ADDRESSES: Crowne Plaza Hotel, 1060 Center Street, North Augusta, SC 29201.

The meeting will also be streamed on YouTube, no registration is necessary; links for the livestream can be found on the following website: https://cab.srs.gov/srs-cab.html.

FOR FURTHER INFORMATION CONTACT: Amy Boyette, Office of External Affairs, U.S. Department of Energy (DOE), Savannah River Operations Office, P.O. Box A, Aiken, SC 29802; Phone: (803) 952-6120; or Email: amy.boyette@srs.gov.

SUPPLEMENTARY INFORMATION: Purpose of the Board: The purpose of the Board is to make recommendations to DOE-EM and site management in the areas of environmental restoration, waste management, and related activities.

Tentative Agenda

Monday, March 21, 2022

Chair Update

Agenda Review

Agency Updates

Presentations:

• Community Reuse Organization

• Fiscal Year 2022 Budget Update and Budget Priorities

Public Comments

Draft Budget Priorities Letter

Tuesday, March 22, 2022

Agenda Review

Presentations:

• Savannah River Site Solid Waste Program

• Savannah River Site Occupational Radiation Protection Program

• Salt and Sludge Batch Preparation

• EM Systems, An Overview of the 2021 Audit and Declaration of Conformance to the ISO 14001:2015 EM Systems Standard

Public Comments

Voting on Budget Priorities Letter

Public Participation: The meeting is open to the public. It will be held strictly following COVID-19 precautionary measures. To provide a safe meeting environment, seating may be limited; attendees should register for in-person attendance by sending an email to srscitizensadvisoryboard@srs.gov no later than 4:00 p.m. ET on Friday, March 18, 2022. The EM SSAB, Savannah River Site, welcomes the attendance of the public at its advisory committee meetings and will make every effort to accommodate persons with physical disabilities or special needs. If you require special accommodations due to a disability, please contact Amy Boyette at least seven days in advance of the meeting at the telephone number listed above. Written statements may be filed with the Board via email either before or after the meeting. Individuals who wish to make oral statements pertaining to agenda items should submit their request to srscitizensadvisoryboard@srs.gov. Requests must be received five days prior to the meeting and reasonable provision will be made to include the presentation in the agenda. Comments will be accepted after the meeting, by no later than 4:00 p.m. ET on Monday, March 28, 2022. Please submit comments to srscitizensadvisoryboard@srs.gov. The Deputy Designated Federal Officer is empowered to conduct the meeting in a fashion that will facilitate the orderly conduct of business. Individuals wishing to make oral public comments will be provided a maximum of five minutes to present their comments. Individuals wishing to submit written public comments should email them as directed above.

Minutes: Minutes will be available by emailing or calling Amy Boyette at the email address or telephone number listed above. Minutes will also be available at the following website: https://cab.srs.gov/srs-cab.html.

Signed in Washington, DC, on February 15, 2022.
LaTanya Butler,
Deputy Committee Management Officer.

[FR Doc. 2022-03601 Filed 2-17-22; 8:45 am]

BILLING CODE 6450-01-P